DEPARTMENT OF TRANSPORTATION

Pipeline and Hazardous Materials Safety Administration

Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (June to June 2016). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on July 19, 2016.
Donald Burger,
Chief, Special Permits and Approvals Branch.

S.P. No. | Applicant | Regulation(s) | Nature of special permit thereof
MODIFICATION SPECIAL PERMIT GRANTED
12399-M | Linde Gas North America, LLC Murray Hill, NJ | 49 CFR 180.209 | To modify the special permit to authorize DOT Specification 3AL cylinders made of 6351-T6 aluminum to be requalified by ultrasonic examination and eddy current examination in accordance with 49 CFR Appendix C to Part 180.
14206-M | Digital Wave Corporation Centennial, CO | 49 CFR 172.203(a), 172.301(c), and 180.205 | To modify the special permit to add DOT Specification 3AX, 3AAX cylinders and 3T tubes which exceed 125 lbs water capacity for requalification by ultrasonic examination once every ten years.
16469-M | ACS UE Testing LLC Denver, CO | 49 CFR 172.203(a), 172.301(c), 180.205 | To modify the special permit to authorize the UE system to perform a 3 pass scan.
9232-M | U.S. Department of Defense Scott AFB, IL | 49 CFR Part 107, Subpart B, Part 172, Subparts C, D except 172.312 | To modify the special permit to identify the DOD as an offeror of hazardous materials and to clarify certain operational requirements by replacing AFR 71-4 with AFMAN 24-204 PREPARING HAZARDOUS MATERIALS FOR MILITARY AIR SHIPMENTS.
7573-M | U.S. Department of Defense Scott AFB, IL | 49 CFR Part 107, Subpart B, IL Part 172 | To modify the special permit to identify the DOD Part 175 as an offeror of hazardous materials and to clarify the authorized airports and update the loading and stowage requirements.
16146-M | U.S. Department of Defense Scott AFB, IL | 49 CFR 171.22(e), 172.101 Hazardous Materials Table Column (9B), International Civil Aviation Organization's Technical Instructions Part 3, Chapter 2, Table 3-1 Columns 12 and 13 | To modify the special permit to authorize Division 1.4 explosives and add optional packaging requirements AFMAN 24-204 PREPARING HAZARDOUS MATERIALS FOR MILITARY AIR SHIPMENTS.
NEW SPECIAL PERMIT GRANTED
16560-N | LightSail Energy, Inc. Berkeley, CA | 49 CFR 173.302(a) | To authorize the manufacture, mark, sale and use of a non-DOT specification fully wrapped carbon fiber reinforced composite cylinder with a non-lead sharing plastic liner for the purpose of transporting certain non-liquefied compressed gases in commerce. This cylinder meets all of the requirements of the ISO 11515 Standard with the exception of the design water capacity and the design safety factor. (modes 1, 2, 3).
16618-N | Farmers Grain Company Pond Creek, OK | 49 CFR 173.24b(a)(1), 173.315(m)(1)(iv) | To authorize the transportation in commerce of anhydrous ammonia in four (4) existing non-DOT specification cargo tanks commonly known as “nurse tanks” and considered an implement in husbandry. The tanks exceed the authorized capacity and are loaded by volume rather than by weight as required by the Hazardous Materials Regulations (HMR). (mode 1).
MODIFICATIONS SPECIAL PERMIT WITHDRAWN
16572-M | Samsung Austin Semiconductor, LLC Austin, TX | 49 CFR 173.158(b), 173.158(e), 173.158(f) | To modify the special permit originally issued on an emergency basis to authorize an additional two years and to authorize drums to be emptied no more than 26 weeks after the initial date of filling instead of the current 6 months.
14429-M | Bayer HealthCare, LLC Cleveland, TN | 49 CFR 173.306(a)(3)(v) | To modify the special permit to authorize an additional DOT Specification 2P aluminum non-refillable inside container, add an additional Division 2.2 material, update “Consumer Commodity” to “Limited Quantity”, change the capacity from volumetric “ounces” to “Net Weight Ounces” and update the drawing numbers of the inside containers.
DENIED
16572-M | Request by Samsung Austin Semiconductor, LLC Austin, TX June 03, 2016. To modify the special permit to authorize removing unnecessary restrictions contained in paragraph 7.b. safety control measures.
16463-N | Request by Salco Products Lemont, IL June 15, 2016. We would like to apply for a special permit to approve for use 1″-3″ thread by thread ball valves on tank cars produced by SW; Part numbers BWEV6666TTSE00100000, BWEV6666TTSELK100000, BWEV6LH20, BWEV6666TTSE00200000, BWEV6666TTSELK200000, BWEV6666TTSE00300000 and BWEV6666TTSE0030LKOO. These valves are currently on AAR approval number E079023 but the facility producing them has inadvertently allowed their facility certification to lapse. The facility is reapplying for facility approval but due to the high demand on the AAR the re-approval will not happen for an additional (6) months. Before the manufacturer realized the facility certification had lapsed valves were sold and placed into service. We are requesting a special permit to allow the continued use of the SVF valves listed above until such time the AAR can approve the facility. The facility has in place a current ISO 9001:2008 and an EC Certificate of Conformity certification from Lloyd's Register in addition to several PED and EC approvals as evidence of an in place quality system and its continued adherence. We do not believe there is any increase in risk by allowing the continued use of these valves based upon the evidence of an in place quality system and a review of the quality performance associated with these valves. There are currently no known open issues with the valves in service. The manufacturer of these valves has been in business and providing these valves for use on tank cars for 20+ years. There has been no change in manufacturing, materials or design. The special permit is for the manufacturer to be applied to all shippers utilizing the above listed valves.

[FR Doc. 2016-18198 Filed 8-9-16; 8:45 am]

BILLING CODE 4909-60-M